DEPARTMENT OF LABOR

Employment and Training Administration

[TA-W-50,905]

Shrimping Vessel (S/V) Vagabond, Inglis, FL; Notice of Termination of Investigation

Pursuant to Section 221 of the Trade Act of 1974, as amended, an investigation was initiated on February 14, 2003 in response to a petition filed by a company official on behalf of workers at shrimping vessel Vagabond, Inglis, Florida.

The Department has been unable to locate an official of the company to obtain the information necessary to issue a determination on worker group eligibility. Consequently, further investigation in this case would serve no purpose, and the investigation has been terminated.

Signed at Washington, DC, this 8th day of April, 2003.
Linda G. Poole,
Certifying Officer, Division of Trade Adjustment Assistance.

[FR Doc. 03-10351 Filed 4-25-03; 8:45 am]

BILLING CODE 4510-30-P